DEPARTMENT OF COMMERCE

National Oceanic and Atmospheric Administration

50 CFR Part 660

[Docket No. 241022-0278]

RIN 0648-BO00

Magnuson-Stevens Act Provisions; Fisheries Off West Coast States; Pacific Coast Groundfish Fishery; 2025-2026 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. These inseason adjustments will change depth restrictions and trip limits for some stocks in recreational and commercial groundfish fisheries off the California coast to allow more attainment of healthy stocks that co-occur with California quillback rockfish. This action is intended to allow commercial and recreational fishing vessels to access more abundant groundfish stocks while protecting overfished and depleted stocks.

DATES: This final rule is effective September 18, 2025.

FOR FURTHER INFORMATION CONTACT: Gretchen Hanshew, 206-526-6147, gretchen.hanshew@noaa.gov.

Electronic Access

This rule is accessible via the internet at the Office of the Federal Register website at https://www.federalregister.gov. Background information and documents are available at the Pacific Fishery Management Council's website at https://www.pcouncil.org/.

SUPPLEMENTARY INFORMATION:

Background

The Pacific Coast Groundfish Fishery Management Plan (PCGFMP) and its implementing regulations at title 50 in the Code of Federal Regulations (CFR), part 660, subparts C through G, regulate fishing for groundfish off the coasts of Washington, Oregon, and California. Pacific Coast groundfish fisheries are managed using harvest specifications or limits (e.g., overfishing limits [OFL], acceptable biological catch [ABC], annual catch limits [ACL], and harvest guidelines [HG]) recommended by the Pacific Fishery Management Council (Council) and based on the best scientific information available (BSIA) at that time (50 CFR 660.60(b)). During development of the harvest specifications, the Council also recommends management measures (e.g., trip limits, area closures, and bag limits) that are meant to control catch so as not to exceed the harvest specifications. Based on recommendations from the Council, NMFS develops and implements groundfish harvest specifications and management measures for 2-year periods (i.e., a biennium).

NMFS published the final rule to implement harvest specifications and management measures for the 2025-2026 biennium for most species managed under the PCGFMP on December 16, 2024 (89 FR 101514). That final rule was effective January 1, 2025. In general, the management measures set at the start of the biennial harvest specifications cycle help the various sectors of the fishery attain, but not exceed, the annual allocations for each stock. During the fishing year, the Council recommends adjustments to the biennial management measures to achieve this goal.

At its June 13-16, 2025 meeting, the Council recommended two inseason actions for the Pacific Coast groundfish fishery. The first involves commercial sablefish trip limits and was published in the Federal Register and effective on July 21, 2025 (90 FR 34186). The second inseason action involves changes in management measures for the recreational and commercial groundfish fisheries off the coast of northern and central California, and is discussed below.

The harvest specifications and mitigation measures developed for the 2025-2026 biennium used data through the 2023 fishing year. California quillback rockfish (Sebastes maliger) was determined by NMFS, in December 2023, to be overfished. Thus, in an effort to take precautionary steps prior to the implementation of a rebuilding plan, the Council recommended and NMFS implemented restrictive commercial and recreational measures, as inseason changes, in autumn 2023 (88 FR 67656, October 2, 2023), to use all means available to conserve California quillback rockfish. These restrictive measures were retained in the 2025-2026 harvest specifications and management measures.

The adjustments provided in this inseason action are based on updated information that was unavailable when the analysis for the current harvest specifications, management measures, and the rebuilding plan was completed. As new fisheries data becomes available, adjustments to management measures are appropriate in order to help harvesters achieve but not exceed the catch limits. Accordingly, at its June 2025 meeting, the Council considered input from its advisory bodies on a draft 2025 benchmark stock assessment for California quillback rockfish (hereafter quillback rockfish), which showed preliminary results that the estimated harvestable surplus for 2027 would be approximately 6 times higher than the 2025 ACL, and that the stock is not overfished and may never have been in an overfished condition. Contingent upon the outcome of the stock assessment review process producing a final stock assessment substantially similar to the draft available in June, the Council recommended inseason changes to the 2025-2026 groundfish management measures with the intent of relieving restrictions on stocks that co-occur with quillback rockfish.

The benchmark assessment was accepted by a peer review in July 2025 and, on September 3, 2025, the final benchmark stock assessment was endorsed by the Council's Scientific and Statistical Committee (SSC). On September 4, 2025, NMFS determined that the 2025 stock assessment represents new best scientific information available (BSIA) and the stock status for quillback rockfish is expected to be not overfished and rebuilt. The final stock assessment estimates that the quillback rockfish stock is above its proxy for maximum sustainable yield (MSY); at 43.5 percent depletion estimated in 2025. Also, the stocks' harvestable surplus is estimated in the 2025 assessment to be over six times higher than the 2021 assessment estimate, with a projected OFL of 12.83 metric tons (mt) for 2027 compared to an OFL estimate of 2.11 mt in 2023. Based on this new information, the Council recommended changes to relieve restrictions for the remainder of the biennial period for stocks that co-occur with quillback rockfish and are affecting boat operators, fish processors, and coastal communities. The Council did not recommend changes to routine management measures that directly affect quillback rockfish. Retention of quillback rockfish will therefore still be prohibited off much of the coast of California, and the use of descending devices will still be required to resubmerge incidentally caught quillback rockfish in commercial and recreational hook and line fisheries. For these reasons, the recommended changes are expected to help the various sectors of the fishery attain, but not exceed, the catch limits for each stock, including quillback rockfish.

Recreational Fishery

During the 2025-2026 biennial process, the Council considered a range of routine recreational fishery management measure configurations off the coast of California, ranging from open all-depths year-round (essentially unrestricted) to year-round depth-restrictions with shortened open seasons (highly restricted). The wide range of restrictions was analyzed with the intent of encompassing the uncertainty in how catches in the fishery could accrue compared to expectations and catch limits, and to allow the Council to consider adaptive management based on new information.

Since the implementation of fishery restrictions on quillback rockfish and species that co-occur with quillback rockfish in late 2023, the Council and NMFS staff have received continuous comments from commercial and recreational fishery participants on the adverse economic impacts of such restrictions to California coastal communities. Most recently, at its June 2025 meeting, the Council received public comments from recreational fishery representatives describing the hardships created by the current depth restrictions and current fishery restrictions, including how offshore fishing increased fuel costs and transit time and how regulatory discards of commonly encountered stocks were negatively affecting charter passengers perceived quality and value of trips.

Based on new scientific information regarding the improved status of the quillback rockfish stock, and in light of the hardships that recreational fishery participants are experiencing, in June 2025, the Council recommended all-depth recreational fishing for rockfish, cabezon, and greenling (referred to as the “RCG Complex” in California recreational regulations) and lingcod, during the open season for the Northern, Mendocino, San Francisco, and Central groundfish management areas from April 1 through December 31, for the remainder of the biennial period (2025-26). For the same reasons, and to reduce regulatory complexity, the Council also recommended removal of the management line at Point Lopez (36° North latitude (N lat.)) to recombine the two sub-areas that were created within the Central groundfish management area in 2023.

Consistent with Council recommendations, NMFS is modifying regulatory text at 50 CFR 660.360(c)(3)(i)(A), sub-paragraphs (1) through (4) for the Northern, Mendocino, San Francisco, and Central groundfish management areas to read as follows: “recreational fishing for the RCG Complex and lingcod is closed from January 1 through March 31 and is open at all-depths from April 1 through December 31.”

Commercial Fishery

During the 2025-26 biennial process, the Council considered how adjustments to routine non-trawl commercial fishery management measures could be made inseason to meet the goals and objectives of the FMP.

The non-trawl commercial sector in California has had very restrictive management measures since 2023 to reduce the likelihood of catching quillback rockfish, either as a target stock or incidentally when targeting other co-occurring stocks. These Federal regulations, combined with concurrently restrictive state rules in state waters, effectively closed commercial groundfish fishing in state waters between 42° N lat. and 37°07′ N lat., for all commercial fishing vessels, with the exception of state nearshore permit holders fishing exclusively in state waters under state regulations.

Since 2023, the Council has received comments from industry, describing very limited access to groundfish fishery resources in northern and central California. The negative impact from groundfish restrictions is compounded for fishermen, processors, and coastal communities off California by a continued closure of all commercial salmon fishing opportunities in 2025. Therefore, based on the new BSIA regarding the improved status of the quillback rockfish stock, in order to alleviate restrictions on the non-trawl commercial groundfish fishery, the Council recommended, and NMFS is implementing, inseason adjustments to increase trip limits for a number of healthy and underutilized stocks that co-occur with quillback rockfish, but for which trip limits were restricted in 2023. The Council also recommended, and NMFS is implementing, inseason action to reduce depth-based closures for this fishery, thus allowing greater access to depths where healthy deeper nearshore and shelf stocks that co-occur with quillback rockfish may be accessed.

These inseason adjustments will generally revert trip limits and depth-based closures to those in place prior to the quillback rockfish restrictions. Consistent with Council recommendations, NMFS is modifying regulatory text in Tables 2a and 2b to Part 660, Subpart E and Tables 3a and 3b, Subpart F to implement non-trawl Rockfish Conservation Area (RCA) boundaries and trip limits, as described in Tables 1 through 9 below.

Table 1—Non-Trawl Rockfish Conservation Area (RCA) Boundaries for the Limited Entry Fixed Gear (LEFG) and Open Access (OA) Non-Trawl Fisheries Between 42° N Lat. and 34°27′ N Lat.
Area | Current boundary | New boundary
42° N lat.-40°10′ N lat | Shoreward EEZ-75 fm line | 30 fm line-75 fm line.
40°10′ N. lat.-38°57.5′ N lat | Shoreward EEZ-75 fm line | 40 fm line-75 fm line.
38°57.5′ N lat.-37°07′ N lat | Shoreward EEZ-75 fm line | 50 fm line-75 fm line.
37°07′ N lat.-34°27′ N lat | 50 fm line-75 fm line | 50 fm line-75 fm line.

Table 2—Trip Limit Structure for LEFG and OA Nearshore Rockfish in Current Regulation and as Modified by This Inseason Action
Option | Habitat | Management area | Trip limits
New trip limits | Black rockfish | 42° N lat.-40°10′ N lat | 7,000 lb (3,175 kg)/2 months.
| Nearshore | 42° N lat.-40°10′ N lat | 2,000 lb (907 kg)/2 months, of which no more than 75 lb (34 kg) may be copper rockfish.
| Shallow nearshore | 40°10′ N lat.-36° N lat | 2,000 lb (907 kg)/2 months.
|  | South of 36° N lat | 2,000 lb (907 kg)/2 months.
| Deeper nearshore | 40°10′ N lat.-36° N lat | 2,000 lb (907 kg)/2 months, of which no more than 75 lb (34 kg) may be copper rockfish.
|  | South of 36° N lat | 2,000 lb (907 kg)/2 months, of which no more than 75 lb (34 kg) may be copper rockfish.
Current trip limits | Black rockfish | 42° N lat.-40°10′ N lat | CLOSED.
| Nearshore | 42° N lat.-40°10′ N lat | 0 lb (0 kg)/2 months.
| Shallow nearshore | 40°10′ N lat.-37°07′ N lat | 0 lb (0 kg)/2 months.
|  | South of 37°07′ N lat | 2,000 lb (907 kg)/2 months.
| Deeper nearshore | 40°10′ N lat.-37°07′ N lat | 0 lb (0 kg)/2 months.
|  | South of 37°07′ N lat | 2,000 lb (907 kg)/2 months, of which no more than 75 lb (34 kg) may be copper rockfish.

Table 3—Trip Limit Structure for LEFG and OA Cabezon in California in Current Regulation and as Modified by This Inseason Action
Option | Management area | Trip limits
New trip limits | 42° N lat.-40°10′ N lat | Unlimited.
| 40°10′ N lat.-36° N lat | Unlimited.
| South of 36° N lat | Unlimited.
Current trip limits | 42° N lat.-40°10′ N lat | 0 lb (0 kg)/2 months.
| 40°10′ N lat.-37°07′ N lat | 0 lb (0 kg)/2 months.
| South of 37°07′ N lat | Unlimited.

Table 4—Trip Limit Structure for LEFG Lingcod in California in Current Regulation and as Modified by This Inseason Action
Option | Management area | Trip limits
New trip limits | 42° N lat.-40°10′ N lat | 2,000 lb (907 kg)/2 months.
| 40°10′ N lat.-36° N lat | 1,600 lb (726 kg)/2 months.
| South of 36° N lat | 1,600 lb (726 kg)/2 months.
Current trip limits | 42° N lat.-40°10′ N lat | 2,000 lb (907 kg)/2 months seaward of the Non-Trawl RCA; CLOSED inside the Non-Trawl RCA.
| 40°10′ N lat.-37°07′ N lat | 1,600 lb (726 kg)/2 months seaward of the Non-Trawl RCA; CLOSED inside of the Non-Trawl RCA.
| South of 37°07′ N lat | 1,600 lb (726 kg)/2 months.

Table 5—Trip Limit Structure for OA Lingcod in California in Current Regulation and as Modified by This Inseason Action
Option | Management area | Trip limits
New trip limits | 42° N lat.-40°10′ N lat | 2,000 lb (907 kg)/2 months.
| 40°10′ N lat.-36° N lat | 1,400 lb (635 kg)/2 months.
| South of 36° N lat | 1,400 lb (635 kg)/2 months.
Current trip limits | 42° N lat.-40°10′ N lat | 2,000 lb (907 kg)/2 months seaward of the Non-Trawl RCA; CLOSED inside the Non-Trawl RCA.
| 40°10′ N lat.-37°07′ N lat | 1,400 lb (635 kg)/2 months seaward of the Non-Trawl RCA; CLOSED inside of the Non-Trawl RCA.
| South of 37°07′ N lat | 1,400 lb (635 kg)/2 months.

Table 6—Trip Limit Structure for LEFG Other Flatfish in California in Current Regulation and as Modified by This Inseason Action
Option | Management area | Trip limits
New trip limits | 42° N lat.-40°10′ N lat | 20,000 lb (9,072 kg)/2 months.
| 40°10′ N lat.-36° N lat | 20,000 lb (9,072 kg)/2 months.
| South of 36° N lat | 20,000 lb (9,072 kg)/2 months.
Current trip limits | 42° N lat.-40°10′ N lat | 20,000 lb (9,072 kg)/2 months seaward of the Non-Trawl RCA; CLOSED inside the Non-Trawl RCA.
| 40°10′ N lat.-37°07′ N lat | 20,000 lb (9,072 kg)/2 months seaward of the Non-Trawl RCA; CLOSED inside of the Non-Trawl RCA.
| South of 37°07′ N lat | 20,000 lb (9,072 kg)/2 months.

Table 7—Trip Limit Structure for OA Other Flatfish in California in Current Regulation and as Modified by This Inseason Action
Option | Management area | Trip limits
New trip limits | 42° N lat.-40°10′ N lat | 10,000 lb (4,536 kg)/2 months.
| 40°10′ N lat.-36° N lat | 10,000 lb (4,536 kg)/2 months.
| South of 36° N lat | 10,000 lb (4,536 kg)/2 months.
Current trip limits | 42° N lat.-40°10′ N lat | 10,000 lb (4,536 kg)/2 months seaward of the Non-Trawl RCA; CLOSED inside the Non-Trawl RCA.
| 40°10′ N lat.-37°07′ N lat | 10,000 lb (4,536 kg)/2 months seaward of the Non-Trawl RCA; CLOSED inside of the Non-Trawl RCA.
| South of 37°07′ N lat | 10,000 lb (4,536 kg)/2 months.

Table 8—Trip Limit structure for LEFG Shelf Rockfish in California in Current Regulation and as Modified by This Inseason Action
Option | Management area | Trip limits
New trip limits | 40°10′ N lat.-34°27′ N lat | 8,000 lb (3,629 kg)/2 months, of which no more than 500 lb (227 kg) may be vermilion/sunset rockfish.
Current trip limit | 40°10′ N lat.-37°07′ N lat | 6,000 lb (2,722 kg)/2 months, of which no more than 500 lb (227 kg) may be vermilion/sunset rockfish.
| 37°07′ N lat.-34°27′ N lat | 8,000 lb (3,629 kg)/2 months, of which no more than 500 lb (227 kg) may be vermilion/sunset rockfish.

Table 9—Trip Limit Structure for OA Shelf Rockfish in California in Current Regulation and as Modified by This Inseason Action
Option | Management area | Trip limits
New trip limits | 40°10′ N lat.-34°27′ N lat | 4,000 lb (1,814 kg)/2 months, of which no more than 300 lb (136 kg) may be vermilion/sunset rockfish.
| South of 34°27′ N lat | 4,000 lb (1,814 kg)/2 months, of which no more than 300 lb (136 kg) may be vermilion/sunset rockfish.
Current trip limits | 40°10′ N lat.-37°07′ N lat | 3,000 lb (1,361 kg)/2 months, of which no more than 300 lb (136 kg) may be vermilion/sunset rockfish.
| 37°07′ N lat.-34°27′ N lat | 4,000 lb (1,814 kg)/2 months, of which no more than 300 lb (136 kg) may be vermilion/sunset rockfish.
| South of 34°27′ N lat | 3,000 lb (1,361 kg)/2 months, of which no more than 900 lb (408 kg) may be vermilion/sunset rockfish.

Classification

This final rule makes routine inseason adjustments to groundfish fishery management measures, based on the BSIA, consistent with the PCGFMP and its implementing regulations.

This action is taken under the authority of 50 CFR 660.60(c) and is exempt from review under Executive Order 12866.

The aggregate data upon which these actions are based are available for public inspection by contacting Gretchen Hanshew in NMFS West Coast Region (see FOR FURTHER INFORMATION CONTACT section above), or view at the NMFS West Coast groundfish website: https://www.westcoast.fisheries.noaa.gov/fisheries/groundfish/index.html.

Pursuant to 5 U.S.C. 553(b), NMFS finds good cause to waive prior public notice and an opportunity for public comment on this action, as notice and comment would be impracticable and contrary to the public interest. The routine adjustments to management measures in this rule are designed to increase harvest of groundfish species while keeping catch within allocations established by the 2025-2026 harvest specifications.

The Council recommended, and NMFS is implementing, a decrease in the size of the depth-based closed areas that the commercial and recreational groundfish fisheries off the coast of Northern and Central California are subject to. Additionally, the Council recommended, and NMFS is implementing, trip limit increases in the limited entry fixed gear (LEFG) and open access (OA) commercial groundfish fisheries, off the coast of Northern and Central California, for black rockfish, nearshore rockfish, shallow nearshore rockfish, deeper nearshore rockfish, cabezon, lingcod, the Other flatfish complex, and shelf rockfish. These inseason changes are in response to new BSIA regarding the stock status of quillback rockfish and need to be enacted for the remainder of the 2025-2026 biennium to avoid continuing restrictions that are not necessary to limit the effects of the fishery on quillback rockfish. Delaying implementation to allow for public comment would impact the fishery's ability to attain, but not exceed, harvest specifications for underutilized stocks that co-occur with quillback rockfish. Additionally, relief from similar restrictions has recently been implemented by the State of California in state waters, which is reportedly creating confusion among fishermen because of the inconsistency between regulations in adjacent federal waters. Thus, delaying these inseason changes would be contrary to the public interest due to the potential for continued confusion for the affected public. Finally, providing a comment period for this action would unnecessarily limit the economic benefits intended by this action and of the overall fishery to fishery participants and fishery-dependent businesses and communities. No aspect of this action is controversial, and changes of this nature were anticipated in the final rule for the 2025-2026 harvest specifications and management measures, which published on December 16, 2024 (89 FR 101514). Routine inseason changes of this nature are also anticipated in the process described in regulations at 50 CFR 660.60(c).

For these same reasons, NMFS finds reason to waive the 30-day delay in effectiveness pursuant to 5 U.S.C. 553(d)(1) so that this final rule may become effective upon publication in the Federal Register. These adjustments were requested by the Council's advisory bodies, as well as members of industry during the Council's June 2025 meeting, and recommended unanimously by the Council. No aspect of this action is controversial, and changes of this nature were anticipated in the biennial harvest specifications and management measures for 2025-2026 (89 FR 101514), which were established through a notice and comment rulemaking.

List of Subjects in 50 CFR Part 660

Fisheries, Fishing, Indian Fisheries.

Dated: September 15, 2025.
Kelly Denit,
Director, Office of Sustainable Fisheries, National Marine Fisheries Service.

For the reasons set out in the preamble, NMFS amends 50 CFR part 660 as follows:

PART 660--FISHERIES OFF WEST COAST STATES

1. The authority citation for part 660 continues to read as follows:

Authority: 16 U.S.C. 1801 et seq., 16 U.S.C. 773 et seq., and 16 U.S.C. 7001 et seq.

2. Amend table 2a (North) to part 660, subpart E by:

a. Removing the entries for “46°16′ N lat.-42°00′ N lat.” and “42°00′ N lat.-40°10′ N lat.”; and

b. Adding the entry “46°16′ N lat.-40°10′ N lat.” at the end of the table.

The addition reads as follows:

Table 2a (North) to Part 660, Subpart E—Non-Trawl Rockfish Conservation Area Boundaries
Latitude | Boundary
* * * * * * *
46°16′ N lat.-40°10′ N lat | 30 fm line-75 fm line.

* * * * *

3. Amend table 2b (North), to part 660, subpart E by:

a. Revising the entries for “Black rockfish (42°00′ N lat.-40°10′ N lat.)”, “Cabezon (42°00′ N lat.-40°10′ N lat.)”, “Lingcod (42°00′ N lat.-40°10′ N lat.)”, and “Nearshore rockfish complex (42°00′ N lat.-40°10′ N lat.)”;

b. Removing the entries “Other flatfish complex (north of 42°00′ N lat.)” and “Other flatfish complex (42°00′ N lat.-40°10′ N lat.)”; and

c. Adding the entry “Other flatfish complex” in alphabetical order.

The revisions and addition read as follows:

Table 2b (North) to Part 660, Subpart E—Trip Limits for Limited Entry Fixed Gear North of 40°10′ N Lat.
Species | Trip limit
* * * * * * *
Black rockfish (42°00′ N lat.-40°10′ N lat.) | 7,000 lb/2 months.
Cabezon (42°00′ N lat.-40°10′ N lat.) | Unlimited.
* * * * * * *
Lingcod (42°00′ N lat.-40°10′ N lat.) | 2,000 lb/2 months.
* * * * * * *
Nearshore rockfish complex (42°00′ N lat.-40°10′ N lat.) | 2,000 lb/2 months, of which no more than 75 lb may be copper rockfish.
* * * * * * *
Other flatfish complex | 20,000 lb/2 months.
* * * * * * *

* * * * *

4. Amend table 2a (South) to part 660, subpart E by:

a. Removing the entries “40°10′ N lat.-37°07′ N lat.” and “37°07′ N lat.-34°27′ N lat.”; and

b. Adding entries for “40°10′ N lat.-38°57.5′ N lat.” and “38°57.5′ N lat.-34°27′ N lat.” at the beginning of the table.

The additions read as follows:

Table 2a (South) to Part 660, Subpart E—Non-Trawl Rockfish Conservation Area Boundaries
Latitude | Boundary
40°10′ N lat.-38°57.5′ N lat | 40 fm line-75 fm line.
38°57.5′ N lat.-34°27′ N lat | 50 fm line-75 fm line.
* * * * * * *

* * * * *

5. Amend table 2b (South) to part 660, subpart E by:

a. Removing the entries for “Cabezon (40°10′ N lat.-37°07′ N lat.)” and “Cabezon (south of 37°07′ N lat.)” and adding the entry “Cabezon” in their place;

b. Removing the entries for “Lingcod (40°10′ N lat.-37°07′ N lat.)” and “Lingcod (south of 37°07′ N lat.)” and adding the entry “Lingcod” in their place;

c. Removing the entries for “Shallow nearshore rockfish complex (40°10′ N lat.-37°07′ N lat.)” and “Shallow nearshore rockfish complex (south of 37°07′ N lat.)” and adding the entry “Shallow nearshore rockfish complex” in their place;

d. Removing the entries for “Deeper nearshore rockfish complex (40°10′ N lat.-37°07′ N lat.)” and “Deeper nearshore rockfish complex (south of 37°07′ N lat.)” and adding the entry “Deeper nearshore rockfish complex” in their place;

e. Removing the entries for “Other flatfish complex (40°10′ N lat.-37°07′ N lat.)” and “Other flatfish complex (south of 37°07′ N lat.)” and adding the entry “Other flatfish complex” in their place; and

f. Removing the entries for “Shelf rockfish complex (40°10′ N lat.-37° 07′ N lat.); excludes bronzespotted rockfish” and “Shelf rockfish complex (37°07′ N lat.-34°27′ N lat.); excludes bronzespotted rockfish” and adding the entry “Shelf rockfish complex (40°10′ N lat.-34°27′ N lat.); excludes bronzespotted rockfish” in their place.

The additions read as follows:

Table 2b (South) to Part 660, Subpart E—Trip Limits for Limited Entry Fixed Gear South of 40°10′ N Lat.
Species | Trip limit
* * * * * * *
Cabezon | Unlimited.
* * * * * * *
Lingcod | 1,600 lb/2 months.
* * * * * * *
Shallow nearshore rockfish complex | 2,000 lb/2 months.
Deeper nearshore rockfish complex | 2,000 lb/2 months, of which no more than 75 lb may be copper rockfish.
* * * * * * *
Other flatfish complex | 20,000 lb/2 months.
* * * * * * *
Shelf rockfish complex (40°10′ N lat.-34° 27′ N lat.); excludes bronzespotted rockfish | 8,000 lb per 2 months, of which no more than 500 lb may be vermilion/sunset rockfish.
* * * * * * *

* * * * *

6. Amend table 3a (North), to part 660, subpart F by revising the entry for “42°00′ N lat.-40°10′ N lat.” to read as follows:

Table 3a (North) to Part 660, Subpart F—Non-Trawl Rockfish Conservation Area Boundaries
Latitude | Boundary
* * * * * * *
42°00′ N lat.-40°10′ N lat. | 30 fm line-75 fm line.

* * * * *

7. Amend table 3b (North) to part 660, subpart F by:

a. Revising the entries for “Black rockfish (42°00′ N lat.-40°10′ N lat.)”, “Cabezon (42°00′ N lat.-40°10′ N lat.)”, “Lingcod (42°00′ N lat.-40°10′ N lat.)”, and “Nearshore rockfish complex (42°00′ N lat.-40°10′ N lat.)”; and

b. Removing the entries for “Other flatfish complex (north of 42°00′ N lat.)” and “Other flatfish complex (42°00′ N lat.-40°10′ N lat.)” and adding the entry “Other flatfish complex” in their place.

The revisions and addition read as follows:

Table 3b (North) to Part 660, Subpart F—Trip Limits for Open Access North of 40°10′ N Lat.
Species | Trip limit
* * * * * * *
Black rockfish (42°00′ N lat.-40°10′ N lat.) | 7,000 lb/2 months.
Cabezon (42°00′ N lat.-40°10′ N lat.) | Unlimited.
* * * * * * *
Lingcod (42°00′ N lat.-40°10′ N lat.) | 2,000 lb/2 months.
* * * * * * *
Nearshore rockfish complex (42°00′ N lat.-40°10′ N lat.) | 2,000 lb/2 months, of which no more than 75 lb may be copper rockfish.
* * * * * * *
Other flatfish complex | 10,000 lb/2 months.
* * * * * * *

* * * * *

8. Amend table 3a (South) to part 660, subpart F by:

a. Removing the entries for “40°10′ N lat.-37°07′ N lat.” and “37°07′ N lat.-34°27′ N lat.”; and

b. Adding the entries “40°10′ N lat.-38° 57.5′ N lat.” and “38°57.5′ N lat.-34°27′ N lat.” at the beginning of the table.

The additions read as follows:

Table 3a (South) to Part 660, Subpart F—Non-Trawl Rockfish Conservation Area Boundaries
Latitude | Boundary
40°10′ N lat.-38°57.5′ N lat. | 40 fm line-75 fm line.
38°57.5′ N lat.-34°27′ N lat. | 50 fm line-75 fm line.
* * * * * * *

* * * * *

9. Amend table 3b (South) to part 660, subpart F by:

a. Removing the entries for “Cabezon (40°10′ N lat.-37°07′ N lat.)” and “Cabezon (south of 37°07′ N lat.)” and adding the entry “Cabezon” in their place;

b. Removing the entries for “Lingcod (40°10′ N lat.-37°07′ N lat.)” and “Lingcod (south of 37°07′ N lat.)” and adding the entry “Lingcod (south of 40°10′ N lat.)” in their place;

c. Removing the entries for “Shallow nearshore rockfish (40°10′ N lat.-37° 07′ N lat.)” and “Shallow nearshore rockfish complex (south of 37°07′ N lat.)” and adding the entry “Shallow nearshore rockfish (south of 40°10′ N lat.)” in their place;

d. Removing the entries for “Deeper nearshore rockfish (40°10′ N lat.-37° 07′ N lat.)” and “Deeper nearshore rockfish (south of 37°07′ N lat.)” and adding the entry “Deeper nearshore rockfish (south of 40°10′ N lat.)” in their place;

e. Removing the entries for “Other flatfish complex (defined at § 660.11) (40°10′ N lat.-37°07′ N lat.)” and “Other flatfish complex (defined at § 660.11) (South of 37°07′ N lat.)” and adding the entry “Other flatfish complex (defined at § 660.11)” in their place; and

f. Removing the entries for “Shelf rockfish complex (40°10′ N lat.-37°07′ N lat.); excludes bronzespotted rockfish” and “Shelf rockfish complex (37°07′ N lat.-34°27′ N lat.); excludes bronzespotted rockfish” and adding the entry “Shelf rockfish complex (40°10′ N lat.-34°27′ N lat.); excludes bronzespotted rockfish” in their place.

The additions read as follows:

Table 3b (South) to Part 660, Subpart F—Trip Limits for Open Access South of 40°10′ N Lat.
Species | Trip limit
* * * * * * *
Cabezon | Unlimited.
* * * * * * *
Lingcod (south of 40°10′ N lat.) | 1,400 lb/2 months.
* * * * * * *
Shallow nearshore rockfish (south of 40°10′ N lat.) | 2,000 lb/2 months.
Deeper nearshore rockfish (south of 40°10′ N lat.) | 2,000 lb/2 months, of which no more than 75 lb may be copper rockfish.
* * * * * * *
Other flatfish complex (defined at § 660.11) | 10,000 lb/2 months.
* * * * * * *
Shelf rockfish complex (40°10′ N lat.-34°27′ N lat.); excludes bronzespotted rockfish | 4,000 lb per 2 months, of which no more than 300 lb may be vermilion/sunset rockfish.
* * * * * * *

* * * * *

10. In § 660.360, revise paragraphs (c)(3)(i)(A) introductory text, (c)(3)(i)(A)(1) through (4), (c)(3)(ii)(A)(1) through (4), and (c)(3)(iii)(A)(1) through (4) to read as follows:

§ 660.360 Recreational fishery—management measures.

* * * * *

(c) * * *

(3) * * *

(i) * * *

(A) Recreational rockfish conservation areas. The Recreational RCAs are areas that are closed to recreational fishing for certain groundfish. Fishing for the California rockfish, cabezon, greenling complex (RCG Complex), as defined in paragraph (c)(3)(ii) of this section, and lingcod with recreational gear, is prohibited within the Recreational RCA. It is unlawful to take and retain, possess, or land the RCG Complex and lingcod taken with recreational gear within the Recreational RCA, unless otherwise authorized in this section. A vessel fishing in the Recreational RCA may not be in possession of any species prohibited by the restrictions that apply within the Recreational RCA. For example, if a vessel fishes in the recreational salmon fishery within the Recreational RCA, the vessel cannot be in possession of the RCG Complex and lingcod while in the Recreational RCA. The vessel may, however, on the same trip fish for and retain rockfish shoreward of the Recreational RCA on the return trip to port. If the season is closed for a species or species group, fishing for that species or species group is prohibited both within the Recreational RCA and outside of the Recreational RCA, unless otherwise authorized in this section. In times and areas where a Recreational RCA is in place, vessels may stop, anchor in, or transit through waters closed by the Recreational RCA so long as they do not have any hook-and-line fishing gear in the water. Coordinates approximating boundary lines at the 30 fm (55 m) through 100 fm (183 m) depth contours can be found at §§ 660.71 through 660.73. The recreational fishing season structure and RCA depth boundaries seaward of California by management area and month are as follows:

(1) Between 42° N lat. (California/Oregon border) and 40°10′ N lat. (Northern Management Area), recreational fishing for the RCG Complex and lingcod is closed January 1 through March 31 and is open at all-depths from April 1 through December 31.

(2) Between 40°10′ N lat. and 38°57.50′ N lat. (Mendocino Management Area), recreational fishing for the RCG Complex and lingcod is closed from January 1 through March 31 and is open at all-depths from April 1 through December 31.

(3) Between 38°57.50′ N lat. and 37°11′ N lat. (San Francisco Management Area), recreational fishing for the RCG Complex and lingcod is closed from January 1 through March 31 and is open at all-depths from April 1 through December 31. Closures around Cordell Bank (see paragraph (c)(3)(i)(C) of this section) also apply in this area.

(4) Between 37°11′ N lat. and 34°27′ N lat. (Central Management Area), recreational fishing for the RCG Complex and lingcod is closed from January 1 through March 31 and is open at all-depths from April 1 through December 31.

* * * * *

(ii) * * *

(A) * * *

(1) Between 42° N lat. (California/Oregon border) and 40°10′ N lat. (Northern Management Area), recreational fishing for the RCG Complex is closed from January 1 through March 31 and is open April 1 through December 31.

(2) Between 40°10′ N lat. and 38°57.50′ N lat. (Mendocino Management Area), recreational fishing for the RCG Complex is closed from January 1 through March 31 and is open April 1 through December 31.

(3) Between 38°57.50′ N lat. and 37°11′ N lat. (San Francisco Management Area), recreational fishing for the RCG Complex is closed from January 1 through March 31 and is open April 1 through December 31.

(4) Between 37°11′ N lat. and 34°27′ N lat. (Central Management Area), recreational fishing for the RCG Complex is closed from January 1 through March 31 and is open April 1 through December 31.

* * * * *

(iii) * * *

(A) * * *

(1) Between 42° N lat. (California/Oregon border) and 40°10′ N lat. (Northern Management Area), recreational fishing for lingcod is open from April 1 through December 31 (i.e., recreational fishing for lingcod in the EEZ is closed from January 1 through March 31).

(2) Between 40°10′ N lat. and 38°57.50′ N lat. (Mendocino Management Area), recreational fishing for lingcod is open from April 1 through December 31 (i.e., recreational fishing for lingcod in the EEZ is closed from January 1 through March 31).

(3) Between 38°57.50′ N lat. and 37°11′ N lat. (San Francisco Management Area), recreational fishing for lingcod is open from April 1 through December 31 (i.e., recreational fishing for lingcod in the EEZ is closed from January 1 through March 31).

(4) Between 37°11′ N lat. and 34°27′ N lat. (Central Management Area), recreational fishing for lingcod in the EEZ is open from April 1 through December 31 (i.e., recreational fishing for lingcod in the EEZ is closed from January 1 through March 31).

* * * * *

[FR Doc. 2025-18079 Filed 9-17-25; 8:45 am]

BILLING CODE 3510-22-P